DEPARTMENT OF HEALTH AND HUMAN SERVICES

Centers for Disease Control and Prevention

Diseases Transmitted Through the Food Supply Correction

A notice of the annual update of list of infectious and communicable diseases that are transmitted through handling the food supply and the methods by which such diseases are transmitted was published in the Federal Register on November 17, 2008 (73 FR 67871). This notice is corrected as follows:

On page 67872, first column: the second sentence “The Centers for Disease Control and Prevention (CDC) published a final list on August 16, 1991 (56 FR 40897) and updates on September 8, 1992 (57 FR 40917); January 13, 1994 (59 FR 1949); August 15, 1996 (61 FR 42426); September 22, 1997 (62 FR 49518-9); September 15, 1998 (63 FR 49359), September 21, 1999 (64 FR 51127); September 27, 2000 (65 FR 58088), September 10, 2001 (66 FR 47030), and September 27, 2002 (67 FR 61109).”

Should now read: “The Centers for Disease Control and Prevention (CDC) published a final list on August 16, 1991 (56 FR 40897) and updates on September 8, 1992 (57 FR 40917); January 13, 1994 (59 FR 1949); August 15, 1996 (61 FR 42426); September 22, 1997 (62 FR 49518-9); September 15, 1998 (63 FR 49359), September 21, 1999 (64 FR 51127); September 27, 2000 (65 FR 58088), September 10, 2001 (66 FR 47030), September 27, 2002 (67 FR 61109), and September 26, 2006 (71 FR 56152).”

Dated: November 19, 2008.
James D. Seligman,
Chief Information Officer, Centers for Disease Control and Prevention.

[FR Doc. E8-28151 Filed 11-25-08; 8:45 am]

BILLING CODE 4163-18-P